DEPARTMENT OF DEFENSE

Department of the Air Force

[Docket ID USAF-2011-0017]

Privacy Act of 1974; System of Records

AGENCY: Department of the Air Force, DoD.

ACTION: Notice to Alter a System of Records.

SUMMARY: The Department of the Air Force proposes to alter a system of records to its inventory of record systems subject to the Privacy Act of 1974 (5 U.S.C. 552a), as amended.

DATES: This proposed action will be effective without further notice on July 25, 2011 unless comments are received which result in a contrary determination.

ADDRESSES: You may submit comments, identified by dock number and/RIN number and title, by any of the following methods:

• Federal Rulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, Attn: SAF/CIO A6, 1800 Air Force Pentagon, Washington DC 20330-1800 or by phone at 703-696-6488.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on June 13, 2011 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: June 16, 2011.
Aaron Siegel,
Alternate OSD Federal Register Liaison Officer, Department of Defense.

F032 AFCESA B

System Name:

Automated Civil Engineer System Records (December 30, 2008, 73 FR 79841).

* * * * *

Changes:

System Identifier:

Delete entry and replace with “F032 AF CE G.”

System Location:

Delete entry and replace with “Defense Information Systems Agency (DISA), Systems Management Center, Montgomery, 401 East Moore Drive, Bldg 857, Gunter AFB, AL 36114-3001.”

Categories of individuals covered by the system:

Delete entry and replace with “Air Force Active Duty, Air National Guard, Air Force Reserve personnel, Air Force Department of Defense civilians (DoD) and Air Force Civil Engineering contractors.”

Categories of records in the system:

Delete entry and replace with “Individual's name, nick names, Social Security Number (SSN), gender, date of birth, personal cell phone number, home telephone number, personal e-mail addresses, mailing/home address, marital status, and emergency contact name and phone number.”

Authority for maintenance of the system:

Delete entry and replace with “10 U.S.C. 8013, Secretary of the Air Force: Powers and duties; delegation by; Department of Defense Regulation 5200.2-R, DoD Personnel Security Program; 10 U.S.C. 9832, Property accountability; Air Force Instruction 33-332, Privacy Act Program; and E.O. 9397 (SSN), as amended.”

Purpose(s):

Delete entry and replace with “Automated Civil Engineer System is a Web-based application used by the Air Force Civil Engineering community to manage real property, housing, personnel/readiness, project management, and operations management at fixed bases and deployed locations during both peace and war time operations. The system provides accessible information that expedites effective installation maintenance and other support during normal and contingency operations and provides for resource tracking and critical decision-making in the management of all civil engineer functional areas.”

* * * * *

System manager(s) and address:

Delete entry and replace with “Automated Civil Engineer System/Interim Work Management System Program Manager, Headquarters (HQ) A7CRT (O&S), 139 Barnes Drive, Suite 1, Tyndall AFB, FL 32403-5319.”

Notification procedure:

Delete entry and replace with “Individuals seeking to determine whether information about themselves is contained in this system should address written inquiries to the Automated Civil Engineer System/Interim Work Management System Program Manager, HQ A7CRT (O&S), 139 Barnes Drive, Suite 1, Tyndall AFB, FL 32403-5319.

For verification purposes, individual should provide their full name, Social Security Number (SSN), any details that may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths:

‘I declare (or certify, verify, or state) under penalty of perjury that the foregoing is true and correct. Executed on (date). (Signature)’ ”

Record access procedures:

Delete entry and replace with “Individuals seeking access to information about themselves contained in this system of records should address written inquiries to the Automated Civil Engineer System/Interim Work Management System Program Manager, HQ A7CRT (O&S), 139 Barnes Drive, Suite 1, Tyndall AFB, FL 32403-5319.

For verification purposes, individual should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature) ’.

If executed within the United States, its territories, possessions, or commonwealths:

‘I declare (or certify, verify, or state) under penalty of perjury that the foregoing is true and correct. Executed on (date). (Signature) ’

* * * * *

F032 AF CE G

System Name:

Automated Civil Engineer System Records

System Location:

Defense Information Systems Agency (DISA), Systems Management Center, Montgomery, 401 East Moore Drive, Bldg 857, Gunter AFB, AL 36114-3001.

Categories of individuals covered by the system:

Air Force Active Duty, Air National Guard, Air Force Reserve personnel, Air Force Department of Defense civilians (DoD) and Air Force Civil Engineering contractors.

Categories of records in the system:

Individual's name, nick names, Social Security Number (SSN), gender, date of birth, personal cell phone number, home telephone number, personal e-mail addresses, mailing/home address, marital status, and emergency contact name and phone number.

Authority for maintenance of the system:

10 U.S.C. 8013, Secretary of the Air Force: Powers and duties; delegation by; Department of Defense Regulation 5200.2-R, DoD Personnel Security Program; 10 U.S.C. 9832, Property accountability; Air Force Instruction 33-332, Privacy Act Program; and E.O. 9397 (SSN), as amended.

Purpose(s):

Automated Civil Engineer System is a Web-based application used by the Air Force Civil Engineering community to manage real property, housing, personnel/readiness, project management, and operations management at fixed bases and deployed locations during both peace and war time operations. The system provides accessible information that expedites effective installation maintenance and other support during normal and contingency operations and provides for resource tracking and critical decision-making in the management of all civil engineer functional areas.

Routine uses of records maintained in the system, including categories of users and the purposes of such uses:

In addition to those disclosures generally permitted under 5 U.S.C. 552a(b) of the Privacy Act of 1974, these records contained therein may specifically be disclosed outside the (DoD) as a routine use pursuant to 5 U.S.C. 552a(b) (3) as follows:

The DoD “Blanket Routine Uses” published at the beginning of the Air Force's compilation of record system notices apply to this system.

Policies and practices for storing, retrieving, accessing, retaining, and disposing of records in the system:

Storage:

Electronic storage media.

Retrievability:

Individual's name and/or Social Security Number (SSN).

Safeguards:

Access is limited to only users with the appropriate access role and have a need-to-know. Individuals responsible for servicing the records in the performance of official duties are properly screened and cleared for need-to-know. Access to the application is restricted by passwords which are changed periodically. A risk assessment has been performed and will be made available on request.

Retention and disposal:

Records are retained until no longer needed for conducting business and then deleted from the database by erasing.

System manager(s) and address:

Automated Civil Engineer System/Interim Work Management System Program Manager, (HQ) A7CRT (O&S), 139 Barnes Drive, Suite 1, Tyndall AFB, FL 32403-5319.

Notification procedure:

Individuals seeking to determine whether information about themselves is contained in this system should address written inquiries to the Automated Civil Engineer System/Interim Work Management System Program Manager, HQ A7CRT (O&S), 139 Barnes Drive, Suite 1, Tyndall AFB, FL 32403-5319.

For verification purposes, individual should provide their full name, Social Security Number (SSN), any details that may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature) ’.

If executed within the United States, its territories, possessions, or commonwealths:

‘I declare (or certify, verify, or state) under penalty of perjury that the foregoing is true and correct. Executed on (date). (Signature) ’

Record access procedures:

Individuals seeking access to information about themselves contained in this system of records should address written inquiries to the Automated Civil Engineer System/Interim Work Management System Program Manager, HQ A7CRT (O&S), 139 Barnes Drive, Suite 1, Tyndall AFB, FL 32403-5319.

For verification purposes, individual should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature) ’.

If executed within the United States, its territories, possessions, or commonwealths:

‘I declare (or certify, verify, or state) under penalty of perjury that the foregoing is true and correct. Executed on (date). (Signature) ’.

Contesting record procedures:

The Air Force rules for accessing records, for contesting contents and appealing initial agency determinations are published in Air Force Instruction 37-132; 32 CFR part 806b; or may be obtained from the system manager.

Record source categories:

From the individual.

Exemptions claimed for the system:

None.

[FR Doc. 2011-15735 Filed 6-22-11; 8:45 am]

BILLING CODE 5001-06-P